DEPARTMENT OF LABOR

Employment and Training Administration

[TA-W-39,416 and TA-W-39,416C]

Pillowtech Corporation, Fieldcrest Cannon—Plant 4, Kannapolis, North Carolina, and Fieldcrest Cannon—Eagle & Phenix, Columbus, Georgia; Notice of Revised Determination on Reconsideration

By letter of October 8, 2001, the company requested administrative reconsideration of the Department's denial of eligibility to apply for trade adjustment assistance applicable to workers and former workers of Pillowtex Corporation, Fieldcrest Cannon—Plant 4, Kannapolis, North Carolina (TA-W-39, 416) and Pillowtex Corporation, Fieldcrest Cannon—Eagle & Phenix, Columbus, Georgia (TA-W-39, 416C).

The initial investigations resulted in negative determinations issued on August 14, 2001, and published in the Federal Register on August 23, 2001 (66 FR 44379). The investigation findings for Pillowtex Corporation, Fieldcrest Cannon—Plant 4, Kannapolis, North Carolina (TA-W-39, 416) and Pillowtex Corporation, Fieldcrest Cannon—Eagle & Phenix, Columbus, Georgia (TA-W-39, 416C) showed that increased imports did not contribute importantly to worker separations at the respective plants.

The company in their request for reconsideration provided additional documentation pertaining to the product produced at Fieldcrest Cannon-Plant 4. The new data supplied by the company indicated that the company increased their reliance on imported sheeting fabric during the relevant period, contributing to the layoffs at the subject plant.

The company also provided clarification concerning the yarn produced at the Fieldcrest Cannon—Eagle and Phenix plant. The initial decision was based on the subject plant producing yarn. The new information provided by the company shows that the yarn produced at the subject facility was further processed into terry bath towels, hand towels and washcloths at the subject plant and then sold to outside sources. A sister facility (Pillowtex Corporation, Fieldcrest Cannon—Plant 1, Kannapolis, North Carolina (TA-W-39, 416B) producing the same products (terry bath towels, hand towels and washcloths) was certified on August 14, 2001. The certification was based on aggregate U.S. imports of terry cloth towels and washcloths increasing significantly during the relevant period, combined with the import to shipment ratio exceeding 170 percent.

Conclusion

After careful review of the additional facts obtained on reconsideration, I conclude that increased imports of articles like or directly competitive with sheeting fabric and terry cloth towels and washcloths, respectively contributed importantly to the declines in sales or production and to the total or partial separation of workers of Pillowtex Corporation, Fieldcrest Cannon—Plant 4, Kannapolis, North Carolina (TA-W-39, 416) and Pillowtex Corporation, Fieldcrest Cannon—Eagle & Phenix, Columbus, Georgia (TA-W-39, 416C). In accordance with the provisions of the Act, I make the following certification:

All workers of Pillowtex Corporation, Fieldcrest Cannon—Plant 4, Kannapolis, North Carolina (TA-W-39, 416) and Pillowtex Corporation, Fieldcrest Cannon—Eagle & Phenix, Columbus, Georgia (TA-W-39, 416C), who became totally or partially separated from employment on or after August 14, 2000, through two years from the date of this certification are eligible to apply for adjustment assistance under Section 223 of the Trade Act of 1974.

Signed in Washington, DC this 13th day of November, 2001.
Edward A. Tomchick,
Director, Division of Trade Adjustment Assistance.

[FR Doc. 01-30067 Filed 12-4-01; 8:45 am]

BILLING CODE 4510-30-M